DEPARTMENT OF HOUSING AND URBAN DEVELOPMENT

[Docket No. FR-7110-N-01; OMB Control No.: 2502-0566]

60-Day Notice of Proposed Information Collection: Revitalization Area Designation and Management

AGENCY: Office of the Assistant Secretary for Housing—Federal Housing Commissioner, HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: April 20, 2026.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Darian Ziegler, PRA Liaison, Department of Housing and Urban Development, 451 7th Street SW, Room 9139-37, Washington, DC 20410.

FOR FURTHER INFORMATION CONTACT: Darian Ziegler, PRA Liaison, Office of Housing, Department of Housing and Urban Development, 451 7th Street SW, Room 9139-37, Washington, DC 20410; email darian.ziegler@hud.gov or telephone (202) 402-4144. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Ziegler.

SUPPLEMENTARY INFORMATION: This notice informs the public that HUD is seeking approval from OMB for the information collection described in Section A.

A. Overview of Information Collection

Title of Information Collection: Revitalization Area Designation and Management.

OMB Approval Number: 2502-0566.

Type of Request: Extension of currently approved collection.

Form Number: None.

Description of the need for the information and proposed use: The Department receives requests via a written requesting letter from state, local, or tribal governments, or HUD-approved Nonprofit organizations to designate a Revitalization Area. Revitalization Areas are intended to promote community revitalization through expanded homeownership opportunities within the Revitalization Areas.

Respondents: State, local, or tribal governments, and HUD-approved Nonprofit organizations.

Estimated Number of Respondents: 8.

Estimated Number of Responses: 8.

Frequency of Response: On Occasion.

Average Hours per Response: 2.5 hours.

Total Estimated Burdens: 20.

Information collection | Number of respondents | Frequency of response | Responses per annum | Burden hour per response | Annual burden hours | Hourly cost per response | Annual cost
Revitalization Area Designation and Management | 8 | 1 | 8 | 2.5 | 20 | $43.14 | $862.80

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Vance T. Morris,
Associate General Deputy Assistant Secretary for Housing.

[FR Doc. 2026-03062 Filed 2-13-26; 8:45 am]

BILLING CODE 4210-67-P